DEPARTMENT OF COMMERCE

International Trade Administration

[A-588-845]

Stainless Steel Sheet and Strip in Coils From Japan: Final Results of Changed Circumstance Antidumping Duty Review, and Determination To Revoke Order in Part

AGENCY: Import Administration, International Trade Administration, Department of Commerce.

ACTION: Final results of changed circumstance antidumping duty review, and determination to revoke order in part.

EFFECTIVE DATE: September 11, 2000.

SUMMARY: On July 31, 2000, the Department of Commerce (“the Department”) published a notice of initiation of a changed circumstances antidumping duty review and preliminary results of review with intent to revoke, in part, the antidumping duty order on stainless steel sheet and strip in coils from Japan. We are now revoking this order in part, with regard to the following product: stainless steel razor blade, medical surgical blade, and industrial blades, as described in the “Scope” section of this notice, based on the fact that domestic parties have expressed no further interest in the relief provided by the order with respect to the importation or sale of this stainless steel coil, as so described.

FOR FURTHER INFORMATION CONTACT: Alex Villanueva, Import Administration, International Trade Administration, U.S. Department of Commerce, 14th Street and Constitution Avenue, NW., Washington DC 20230; telephone (202) 482-6412.

SUPPLEMENTARY INFORMATION:

Applicable Statute and Regulations

Unless otherwise indicated, all citations to the statute are references to the provisions effective January 1, 1995, the effective date of the amendments made to the Tariff Act of 1930 (the Act) by the Uruguay Round Agreements Act (URAA). In addition, unless otherwise indicated, all citations to the Department's regulations are to the regulations at 19 CFR Part 351 (April 1, 1999).

Background

On October 22, 1999, the Department of Commerce (“the Department”) received a request on behalf of Techni Edge Manufacturing Co., (“Techni Edge”) for a changed circumstance review and an intent to revoke in part the antidumping duty (AD) order with respect to specific stainless steel sheet and strip from Japan. The Department received a letter on May 12, 2000 from petitioners (Allegheny Ludlum Corporation, Armco, Inc., J&L Specialty Steel, Inc., Washington Steel Division of Bethlehem Steel Corporation (formerly Lukens, Inc.), the United Steelworkers of America, AFL-CIO/CLC, the Butler Armco Independent Union and the Zanesville Armco Independent Organization, Inc. of CA) expressing no opposition to the request of Techni Edge for revocation in part of the order pursuant to a changed circumstance review with respect to the subject merchandise defined in the Scope of the Review section below.

We preliminarily determined that petitioners' affirmative statement of no interest constituted changed circumstances sufficient to warrant a review and partial revocation of the order. Consequently, on July 31, 2000, the Department published an initiation of a changed circumstances review and preliminary results of review with an intent to revoke the order in part (65 FR 6155).

The merchandise under review is currently classifiable under subheading 7220.20.70 of the Harmonized Tariff Schedule of the United States (HTSUS). Although the HTSUS subheading is provided for convenience and customs purposes, our written description of the scope is dispositive.

Scope of Changed Circumstance Review

The products covered by this exclusion request and changed circumstances review are certain stainless steel used for razor blades, medical surgical blades, and industrial blades and sold under proprietary names such as DSRIK7, DSRIKA, and DSRIK9. This stainless steel strip in coils is a specialty product with a thickness of 0.15 mm to 1,000 mm, or 0.006 inches to 0.040 inches, and a width of 6 mm to 50 mm, or 0.250 inches to 2.000 inches. The edge of the product is slit, and the finish is bright. The steel contains the following chemical composition by weight: Carbon 0.65% to 1.00%, Silicon 1.00% maximum, Manganese 1.00% maximum, Phosphorus 0.35% maximum, Sulfur 0.25% maximum, Nickel 0.35% maximum, Chromium 0.15% maximum, Molybdenum 0.30% maximum.

Comments

In the preliminary results, we provided parties the opportunity to comment. We did not receive any comments from the interested parties.

Final Results of Review and Partial Revocation of the Antidumping Duty Order

The affirmative statement of no interest by petitioners concerning the stainless steel strip in coils from Japan and the fact that no interested parties objected to or otherwise commented on our preliminary results of review, constitute changed circumstances sufficient to warrant partial revocation of the order. Therefore, the Department is partially revoking the order on stainless steel sheet and strip in coils with respect to the product described above, in accordance with sections 751(b) and (d) and 782(h) of the Act and 19 CFR 351.222(g)(i). This partial revocation applies to all unliquidated entries of the above-described merchandise not subject to administrative review as of the date of publication in the Federal Register of these final results of changed circumstances review.

The Department will instruct the Customs Service (Customs) to proceed with liquidation, without regard to antidumping duties, of any unliquidated entries of steel coil (i.e., stainless steel razor blade, medical surgical blade, and industrial blades), as specifically described in the “Scope of Changed Circumstance Review” section above, and entered, or withdrawn from the warehouse, for consumption on or after January 4, 1999. The Department will further instruct Customs to refund with interest any estimated duties collected with respect to unliquidated entries of steel coils entered or withdrawn from warehouse for consumption on or after the publication date of the final results of this circumstances review, in accordance with section 778 of the Act and 19 CFR 351.222(f)(4).

This notice also serves as a final reminder to parties subject to administrative protection orders (APOs) of their responsibility concerning the disposition of proprietary information disclosed under APO in accordance with 19 CFR 351.34(d)(1997). Failure to timely notify the Department in writing of the return/destruction of APO material is a sanctionable violation.

This changed circumstances review, partial revocation of the antidumping duty order, and notice are in accordance with sections 751(b) and (d) and 782(h) of the Act and sections 351.216, 351.2221(c)(3), and 351.222(g) of the Department's regulations.

Dated: August 31, 2000.
Troy H. Cribb,
Acting Assistant Secretary for Import Administration.

[FR Doc. 00-23256 Filed 9-8-00; 8:45 am]

BILLING CODE 3510-DS-P